DEPARTMENT OF ENERGY

Federal Energy Regulatory Commission

[Docket No. RT01-2-000]

PJM Interconnection, L.L.C., et al; Notice of Filing

October 20, 2000.

Take notice that on October 11, 2000, pursuant to section 35.34(h) of the Commission's regulations, 18 CFR 35.34(h), and the Commission's July 20, 2000 “Notice of Guidance for Processing Order No. 2000 Filings” in Docket No. RM99-2-000, Allegheny Electric Cooperative, Inc., Atlantic City Electric Company, Baltimore Gas and Electric Company, Delmarva Power & Light Company, Jersey Central Power & Light Company, Metropolitan Edison Company, PECO Energy Company, Pennsylvania Electric Company, PPL Electric Utilities Corporation, Potomac Electric Power Company, Public Service Electric & Gas Company, and UGI Utilities Inc. (collectively, PJM Transmission Owners) and PJM Interconnection. L.L.C. (PJM) jointly submitted an Order No. 2000 compliance filing.¹

¹ Atlantic City Electric Company and Delmarva Power and Light Company do business as Conectiv. Jersey Central Power & Light Company, Metropolitan Edison Company and Pennsylvania Electric Company do business as GPU Energy.

The filing requests that the Commission find that PJM is an RTO in compliance with Order No. 2000, and requests that the Commission accept for filing certain changes to its Tariff and Transmission Owners Agreement. The filing requests an effective date of January 1, 2001.

Any person desiring to be heard or to protest such filing should file a motion to intervene, comments, or protest with the Federal Energy Regulatory Commission, 888 First Street, NE, Washington, DC 20426, in accordance with rules 211 and 214 of the Commission's Rules and Practice and Procedure (18 CFR 385.211 and 385.214). All such motions, comments and protests should be filed on or before November 20, 2000. Protests will be considered by the Commission to determine the appropriate action to be taken, but will not serve to make protestants parties to the proceedings. Any person wishing to become a party must file a motion to intervene. Copies of this filing may also be viewed on the Internet at http://www.ferc.fed.us/online/rims.htm (call 202-208-2222 for assistance). Beginning November 1, 2000, comments and protests may be filed electronically via the internet in lieu of paper. See, 18 CFR 385.2001(a)(1)(iii) and the instructions on the Commission's web site at http://www.ferc.fed.us/efi/doorbell.htm.

Linwood A. Watson, Jr.,
Acting Secretary.

[FR Doc. 00-27555 Filed 10-26-00; 8:45 am]

BILLING CODE 6717-01-M